DEPARTMENT OF AGRICULTURE

Food and Nutrition Service

Agency Information Collection Activities: Proposed Collection; Comment Request—Evaluation of the Demonstrations of National School Lunch and School Breakfast Program (NSLP/SBP) Direct Certification of Children Receiving Medicaid Benefits

AGENCY: Food and Nutrition Service (FNS), USDA.

ACTION: Notice.

SUMMARY: In accordance with the Paperwork Reduction Act of 1995, this notice invites the general public and other public agencies to comment on this proposed information collection. This is a new collection for Evaluation of the Demonstrations of NSLP/SBP (National School Lunch Program/School Breakfast Program) Direct Certification of Children Receiving Medicaid Benefits.

DATES: Written comments must be received on or before April 15, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steve Carlson, Food and Nutrition Service, U.S. Department of Agriculture, 3101 Park Center Drive, Room 1040, Alexandria, VA 22302. Comments may also be submitted via fax to the attention of Steve Carlson at 703-305-2017 or via email to steve.carlson@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Room 1040, Alexandria, Virginia 22302.

All responses to this notice will be summarized and included in the request for Office of Management and Budget approval. All comments will be a matter of public record.

FOR FURTHER INFORMATION CONTACT: Requests for additional information or copies of this information collection should be directed to Steve Carlson at 703-305-2017.

SUPPLEMENTARY INFORMATION:

Title: Evaluation of the Demonstrations of NSLP/SBP Direct Certification of Children Receiving Medicaid Benefits.

Form Number: N/A.

OMB Number: Not Yet Assigned.

Expiration Date: Not Yet Determined.

Type of Request: New collection.

Abstract: The Healthy, Hunger-Free Kids Act of 2010 (the Act), Section 103, directs USDA to demonstrate direct certification for free lunches and breakfasts to children who are receiving Medicaid and whose households have a gross income as measured by Medicaid that does not exceed 133 percent Federal Poverty Level (FPL). The Direct Certification-Medicaid (DC-M) demonstration may expand the number of students certified for free meals and affect the costs that States and local education agencies (LEAs) incur when certifying students. While the process of matching students to Medicaid data will increase certification costs for States and some LEAs, DC-M can generate cost savings if it leads fewer families to submit applications for school meals. DC-M may also have an impact on federal costs if it leads to an increase in certifications for free and reduced price meals.

To determine the impact and effectiveness of direct certification using Medicaid data, FNS will conduct a comprehensive evaluation of DC-M through three investigative areas:

(1) Identify the potential impact that DC-M may have on children's access to the NSLP and SBP;

(2) Measure the actual impact of DC-M on participation and costs observed over two years of demonstrations. This component of the study will examine whether DC-M leads to changes in the number and distribution of certified students and higher or lower certification costs in LEAs. The results of this analysis will be used to project the impact of DC-M on number of meals served and on the dollar amount of federal meal reimbursements distributed to districts. The study will also identify the challenges that States and LEAs face when implementing DC-M; and

(3) Examine the conditions that would make SES certification procedures a cost-effective alternative to current certification procedures.

The study will gather data from State and LEAs to include: (1) Certification and participation records; (2) cost surveys and interviews that include certification costs, start-up costs, local meal costs, and federal benefit costs; as well as (3) challenges in conducting DC-M matching. Data will be collected through web surveys and telephone interviews for school year 2012-13 (SY1) and school year 2013-2014 (SY2).

Affected Public: State and Local Government—Respondent groups identified include: (1) State level administrators that administer the National School Lunch and Breakfast Programs from nine State agencies (six States in SY1 and an additional three States in SY2); and (2) District/School level administrators from 698 LEAs in SY1, increasing to 1,200 LEAs in SY2.

Estimated Number of Respondents: 3,776.

Estimated Number of Responses per Respondent: The average estimated annual number of responses per respondent in the first school year is 1.03, and the average in the second school year is 4.24, for an aggregate average over the two years of 3.09 responses.

Estimated Time per Response: The estimated time per response is .767 hours (or approximately 46 minutes). The estimated time of response varies from 10 minutes to 5 hours depending upon respondent action, as shown in the table below.

Estimated Total Annual Burden on Respondents: The total estimated annual burden is 1,265.34 hours in year 1 and 7,684.52 hours in year 2, as shown in the table below.

Action | Respondent type | Estimated # respondents | Responses annually per respondent | Total annual responses | Estimated avg. # of hours per response | Estimated total hours
State Challenge Interviews | State Agencies (includes 6 State nutrition directors and 3 Medicaid directors) | 9 | 2 | 18 | 1.00 | 18.00
State Cost Interview | State Agencies (includes 6 State nutrition directors and 6 Medicaid directors) | 12 | 3 | 36 | 3.50 | 126.00
LEA Cost Survey | Local Education Agencies (LEA) (includes 534 child nutrition program directors, 534 business managers, and 9 pretest respondents) | 1,077 | 1 | 1,077 | 1.00 | 1,077.00
| Local Education Agency (LEA) Cost Survey Non-Responders | 266 | 1 | 266 | 0.1667 | 44.34
SY1 TOTAL | State & Local Government | ᵃ 1,355 | 1.03 | 1,397 | 0.91 | 1,265.34
State Challenge Interviews | State Agencies (includes 9 State nutrition directors and 9 Medicaid directors) | 18 | 2 | 36 | 1.00 | 36.00
State Cost Survey | State Agencies (includes 9 State nutrition directors and 9 Medicaid directors) | 18 | 3 | 54 | 3.50 | 189.00
LEA Cost Survey | LEA (includes 960 child nutrition program directors and 960 business managers) | 1,920 | 5 | 9,600 | 0.75 | 7,200.00
| LEA Cost Survey Non-Responders | 480 | 1 | 480 | 0.1667 | 80.02
LEA Challenge Interviews | LEA (includes 27 child nutrition program directors) | 27 | 2 | 54 | 1.00 | 54.00
| LEA Challenge Interview Non-Responders | 3 | 1 | 3 | 0.1667 | 0.50
Match Validation Substudy | State Agencies (includes 1 child nutrition director) | 1 | 2 | 2 | 5.00 | 10.00
| State Agencies (includes 3 Medicaid directors) | 3 | 1 | 3 | 5.00 | 15.00
| LEA (includes 10 district child nutrition administrators and 10 business managers) | 20 | 2 | 40 | 2.50 | 100.00
SY2 TOTAL | State & Local Government | b c 2,421 | 4.24 | 10,272 | 0.75 | 7,684.52
Grand Total | State & Local Government | 3,776 | 3.09 | 11,669 | 0.767 | 8,949.86
ᵃ In SY1, the 9 State challenge interview respondents in SY1 are also completing cost interviews.
ᵇ The 24 Match Validation substudy respondents are also included in the SY2 cost survey respondents.
ᶜ In SY2, the 18 State challenge interview respondents are also completing the cost interviews, and the 27 district challenge interview respondents are also completing the district cost survey.

Dated: January 29, 2013.
Audrey Rowe,
Administrator.

[FR Doc. 2013-03470 Filed 2-13-13; 8:45 am]

BILLING CODE 3410-30-P